DEPARTMENT OF COMMERCE

Foreign-Trade Zones Board

[Docket 56-2002]

Foreign-Trade Zone 33—Pittsburgh, Pennsylvania, Expansion of Manufacturing Authority—Subzone 33C, Sony Technology Center—Pittsburgh (Television Manufacturing Facility), Mount Pleasant, PA

An application has been submitted to the Foreign-Trade Zones Board (the Board) by the Regional Industrial Development Corporation of Southwestern Pennsylvania, grantee of FTZ 33, requesting authority to expand the scope of manufacturing activity at Subzone 33C, the Sony Technology Center—Pittsburgh (Sony) television manufacturing facility, located in Mount Pleasant, Pennsylvania. The application was submitted pursuant to the provisions of the Foreign-Trade Zones Act, as amended (19 U.S.C. 81a-81u), and the regulations of the Board (15 CFR part 400). It was formally filed on December 2, 2002.

Subzone 33C was approved on September 27, 2001 (Board Order 1196, 66 FR 52741, 10-17-01). The subzone currently consists of three sites: Site 1 (633.64 acres)—located at 1001 Technology Drive, Mount Pleasant, Pennsylvania; Site 2 (9.8 acres, 192,500 square feet)—located at the South Greensburg Commons at Huff and Parr Streets, Greensburg, Pennsylvania; and Site 3 (31.2 acres, 273,600 square feet)—located at the former Montgomery Wards Distribution Center on Route 119 in New Stanton, Pennsylvania. Authority was originally granted for the manufacture of finished and unfinished televisions. The applicant is now seeking authority to manufacture a new line of 34-inch wide screen (16:9 ratio) direct view digital and analog televisions at the facility (HTS 8528.12.4800 and 8528.12.3290, duty rate 5%) using foreign sourced cathode ray tubes (HTS 8540.11.1080 and 8540.11.3000, duty rate 15%).

FTZ procedures would exempt Sony from Customs duty payments on the foreign components used in export production. On its domestic sales, Sony would be able to choose the duty rates during Customs entry procedures that apply to finished televisions (5%) for the imported cathode ray tubes. The request indicates that the 34-inch wide screen direct view cathode ray tubes are not produced in the U.S. and that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is February 7, 2003. Rebuttal comments in response to material submitted during the foregoing period may be submitted during the subsequent 15-day period (to February 24, 2003).

A copy of the application and accompanying exhibits will be available for public inspection at the Office of the Foreign-Trade Zones Board's Executive Secretary at the first address listed above, and at the U.S. Department of Commerce, Export Assistance Center, 2002 Federal Building, 1000 Liberty Avenue, Pittsburgh, PA 15222.

Dated: December 2, 2002.
Dennis Puccinelli,
Executive Secretary.

[FR Doc. 02-31037 Filed 12-6-02; 8:45 am]

BILLING CODE 3510-DS-P